DEPARTMENT OF VETERANS AFFAIRS

Advisory Committee on Former Prisoners of War; Notice of Meeting

The Department of Veterans Affairs (VA) gives notice under Public Law 92-463 (Federal Advisory Committee Act) that the Advisory Committee on Former Prisoners of War (FPOW) has scheduled a meeting on May 5-7, 2014, at Embassy Suites, Diplomatic Room, 1250 22nd Street NW., Washington, DC. The meeting will be held on May 5th and 6th from 9:00 a.m. to 4:00 p.m. and on May 7th from 9:00 a.m. to Noon. The meeting is open to the public.

The purpose of the Committee is to advise the Secretary of Veterans Affairs on the administration of benefits under Title 38, United States Code, for veterans who are former prisoners of war, and to make recommendations on the needs of such veterans for compensation, health care, and rehabilitation.

The Committee will hear from its Chairman and will receive briefings by VA management, from the Robert E. Mitchell Center, representatives from Veterans Benefits Administration, and Veterans Health Administration. Annual ethics training will be presented by the Office of General Counsel, the Chairman of the Employee Education System will report on the FPOW training agenda, and Benefits Assistance Service will report on outreach efforts to FPOWs. The Committee invites all FPOWs to attend Tuesday, May 6th, at 11:00 a.m. when the Committee will host an open public forum and FPOW panel to gain information from FPOWs about their experiences, issues, and recommendations for health benefits and claims processing. On May 7th, the Committee will draft the beginning of their 2014/2015 recommendations and decide the location of their next meeting in the fall.

Former Prisoners of War who wish to participate in the FPOW panel and speak at the public forum are invited to submit a 1-2 page summary of their comments at the end of the meeting for inclusion in the official meeting record. Members of the public may also submit written statements for the Committee's review to Mrs. Pam Burd, Designated Federal Office, Advisory Committee on Former Prisoners of War, and Program Analyst, Compensation Service (212C), Department of Veterans Affairs, 810 Vermont Avenue NW., Washington, DC 20420, or by email at pamela.burd@va.gov. Any member of the public seeking additional information should contact Ms. Burd by email or call (202) 461-9149.

Dated: April 17, 2014.
Jelessa Burney,
Federal Advisory Committee Management Officer.

[FR Doc. 2014-09162 Filed 4-18-14; 11:15 am]

BILLING CODE P